NUCLEAR REGULATORY COMMISSION

[Docket No. 030-35486; License No. 11-27680-01MD; EAF-RIV-2025-0022; NRC-2025-1732]

In the Matter of International Isotopes, Inc.; Confirmatory Order Modifying License

AGENCY: Nuclear Regulatory Commission.

ACTION: Notice; issuance.

SUMMARY: The U.S. Nuclear Regulatory Commission (NRC) issued a Confirmatory Order to International Isotopes (INIS) to document commitments made as part of a settlement agreement made between the NRC and INIS following an alternative dispute resolution mediation session held on August 6, 2025. The mediation addressed seven apparent violations involving INIS' organization and management of the licensee's broad scope license, control of licensed material, and evaluation of radiation levels. INIS has committed to various measures intended to improve the effectiveness of its Radiation Safety Committee (ALARA Committee), evaluate the range of radiological conditions at its facility during authorized activities, and ensure adequate control of radiological conditions. The Confirmatory Order is effective upon issuance.

DATES: The Confirmatory Order was issued on September 30, 2025.

ADDRESSES: Please refer to Docket ID NRC-2025-1732 when contacting the NRC about the availability of information regarding this document. You may obtain publicly available information related to this document using any of the following methods:

• Federal Rulemaking Website: Go to https://www.regulations.gov and search for Docket ID NRC-2025-1732. Address questions about Docket IDs in Regulations.gov to Bridget Curran; telephone: 301-415-1003; email: Bridget.Curran@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The Confirmatory Order to INIS is available in ADAMS under Accession No. ML25227A262.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Beth Alferink, Region IV, U.S. Nuclear Regulatory Commission, Washington, DC 20555-0001; telephone: 817-200-1182; email: Beth.Alferink@nrc.gov.

SUPPLEMENTARY INFORMATION: The text of the Order is attached.

Dated: November 17, 2025.
For the Nuclear Regulatory Commission.
John Monninger,
Regional Administrator, NRC Region IV.

Attachment—In the Matter of International Isotopes, Inc.; Confirmatory Order Modifying License

UNITED STATES OF AMERICA

NUCLEAR REGULATORY COMMISSION

In the Matter of: INTERNATIONAL ISOTOPES, INC., Docket No. 030-35486, License No. 11-27680-01MD, EAF-RIV-2025-0022

Confirmatory Order Modifying License (Effective Upon Issuance)

I

International Isotopes, Inc. (INIS or the licensee) is the holder of Materials License No. 11-27680-01MD, issued by the U.S. Nuclear Regulatory Commission (NRC or Commission) pursuant to Part 30 of Title 10 of the Code of Federal Regulations (10 CFR). The license authorizes operations at the licensee's facilities in Idaho Falls, Idaho.

This Confirmatory Order (CO) is the result of an agreement reached during an Alternative Dispute Resolution (ADR) mediation session conducted on August 6, 2025.

II

On April 29, 2025, the NRC issued Inspection Report 030-35486/2023-002, Agencywide Documents Access and Management System (ADAMS) Accession No. ML25094A089, to INIS which documented the identification of seven apparent violations that were being considered for escalated enforcement action in accordance with the NRC Enforcement Policy. The violations involved the failure to: (1) establish administrative controls and provisions relating to organization and management, procedures, record keeping, material control, and accounting and management review that are necessary to assure safe operations; (2) make or cause to be made, surveys of areas that may be necessary for the licensee to comply with the regulations in 10 CFR part 20, and are reasonable under the circumstances to evaluate the magnitude and extent of radiation levels; (3) conduct operations so that the total effective dose equivalent to individual members of the public from the licensed operation does not exceed 0.1 rem in a year, and the dose in any unrestricted area from external sources does not exceed 0.002 rem in any one hour; (4) submit a written report within 30 days of learning of the occurrence of doses in excess of the limits for an individual member of the public; (5) control and maintain constant surveillance of licensed material that is in a controlled or unrestricted area and that is not in storage; (6) conduct a physical inventory every 6 months to account for all sealed sources and/or devices received and possessed under the license; and (7) secure from unauthorized removal or access licensed materials that are stored in controlled or unrestricted areas.

By letter dated April 29, 2025, the NRC notified INIS of the results of the inspection and provided INIS with an opportunity to: (1) attend a predecisional enforcement conference or (2) participate in an ADR mediation session in an effort to resolve these concerns.

In response to the NRC's offer, INIS requested the use of the NRC ADR process to resolve differences it had with the NRC. On August 6, 2025, the NRC and INIS met in an ADR session mediated by a professional mediator, arranged through Cornell University's Institute on Conflict Resolution. The ADR process is one in which a neutral mediator, with no decision-making authority, assists the parties in reaching an agreement to resolve any differences regarding the dispute. This Confirmatory Order is issued pursuant to the agreement reached during the August 6, 2025, ADR process.

III

During the ADR mediation session, INIS and the NRC reached a preliminary settlement agreement.

The NRC recognizes the corrective actions that INIS has already implemented associated with the apparent violations, including making extensive procedural and training enhancements, installing additional shielding, and formalizing communication and coordination with the sublessee occupying part of the INIS facilities. INIS sent a detailed list of corrective actions completed or planned prior to the ADR mediation session on August 1, 2025 (ADAMS Accession No. ML25237A102). INIS does not necessarily agree with the apparent violations as described in NRC Inspection Report 030-35486/2023-002; for the purposes of amicably resolving this matter, the NRC and INIS agree to the terms and conditions in the preliminary settlement agreement.

“Contractors” refers to individuals performing activities regulated under the INIS license (License 11-27680-01MD).

Additional commitments made in the preliminary settlement agreement, as signed by both parties, consist of the following:

A. INIS will identify a qualified, independent consultant for nomination and appointment to the Radiation Safety Committee (ALARA Committee). The consultant should have expertise as a health physicist, specifically qualified as a certified health physicist (CHP), with an understanding of manufacturing and distribution facilities, radiation shielding, external dosimetry, and public dose assessment.

1. Within 120 days after the issuance date of the Confirmatory Order, and prior to entering into a contract with an independent consultant, INIS will provide the consultant's qualifications to the NRC for review to verify independence and qualifications. Within 30 days of receiving the proposed consultant's qualifications, the NRC will either communicate to INIS its approval of the consultant or reasons for its disapproval. If the NRC does not approve the proposed consultant, INIS will propose a different consultant within 180 days after the issuance date of the Confirmatory Order.

2. The independent consultant will participate as a quorum member of the INIS ALARA Committee through December 31, 2028.

3. The licensee will not remove the independent consultant from the ALARA Committee without providing written notification to the NRC within 10 business days. The licensee will propose a replacement independent consultant to the NRC within 120 days of the previous consultant's removal.

4. For periods during which the independent consultant is not available to participate on the INIS ALARA Committee, the ALARA Committee may convene and issue decisions, provided that the consultant shall review all Committee decisions upon returning.

B. Within 120 days of the issuance date of the Confirmatory Order, INIS will review and revise the Radiation Safety Manual as necessary to ensure that its ALARA Committee Charter includes provisions to:

1. Reassess the thresholds defining what types of issues shall be brought to the ALARA Committee for approval. The intent is to ensure the ALARA Committee reviews and approves changes with the potential to decrease the effectiveness of the radiation safety program or alter facility radiological conditions. The criteria should include (for example):

a. Adding new activities under the license.

b. Changes to the facility, procedures or processes that may alter the radiological hazard within or adjacent to the facility, including transient or short-term operations.

c. Changes that create new or alter current radiological conditions.

d. Preparation and completion of radiological safety evaluations.

e. Changes to operations that may require an amendment to the license.

2. Require quarterly all-hands ALARA meetings.

3. Require that meeting agenda topics are specifically listed.

4. Require that minutes are created and maintained available for inspection documenting ALARA Committee decisions and supporting decision-making documents are also retained, consistent with regulatory requirements.

The requirements of this Condition will remain in effect through December 31, 2028.

C. INIS will perform a comprehensive radiological assessment of its facilities, including impact to tenants, sublessees, and members of the public, that addresses routine and infrequent licensed activities, and takes into consideration various combinations of authorized activities that could occur at the same time. This assessment shall consider potential doses to occupants of the subleased spaces or tenants in addition to the publicly accessible boundaries of INIS facilities. This shall include recommendations that address establishing administrative limits and their technical bases to ensure that operations do not result in exceeding the limits of 10 CFR 20.1301. This will include the following actions:

1. Within 180 days of the issuance date of the Confirmatory Order, or within 30 days of appointing the independent ALARA Committee member referenced in Condition A, whichever occurs later, INIS will submit a copy of the radiological assessment report to the independent ALARA Committee member.

2. Within 90 days of receiving the radiological assessment report, the independent ALARA Committee member will complete a comprehensive technical review of the report and communicate the results of their review to the ALARA Committee.

3. Within 30 days of the independent ALARA Committee member communicating the results of their review to the ALARA Committee, the ALARA Committee will meet to review and approve the recommendations in the radiological assessment report or describe appropriate alternatives.

4. Within 30 days of the ALARA Committee decision in C.3, the licensee will provide a report to the NRC with the ALARA Committee's decisions regarding the radiological assessment, to include a schedule and plan for implementation.

D. Within 180 days of the issuance date of the Confirmatory Order, INIS will:

1. Develop or revise (i) documentation that describes the current use and storage of licensed materials, and (ii) a facilities drawing that indicates the radiation shielding installed (materials used, dimensions, location of installation, photographs, drawings); and

2. Develop or revise and implement a procedure(s) requiring the following:

a. Any changes/modifications/revisions of the shielding as described in the documentation must first be approved by the full ALARA Committee prior to any change to the shielding. The ALARA Committee review must include whether the proposed change will decrease the effectiveness of the shielding. Documentation of ALARA Committee reviews must be retained consistent with regulatory requirements.

b. Documentation of use and storage of licensed material, and facility shielding drawings, will be updated when changes are made.

c. Documentation of use and storage of licensed material, drawings, and changes will be retained consistent with regulatory requirements and made available to NRC inspectors upon request.

E. Within 60 days of the issuance date of the Confirmatory Order, INIS will develop and implement a comprehensive process or procedure to track sealed sources containing licensed materials that are manufactured by the licensee. The process or procedure will track and provide accountability for all sources manufactured by the licensee until they are transferred to authorized recipients. Sources that are manufactured but are pending transfer to an authorized recipient shall be entered into the licensee's inventory, in order to ensure the inventory record accounts for all licensed material possessed by the licensee.

F. INIS will develop and implement training on this Confirmatory Order as specified below:

1. Within 60 days of the effective date of the Confirmatory Order, INIS will develop a 30- to 45-minute in-depth causal lessons learned presentation related to NRC Inspection Report 030-35486/2023-002, and this Confirmatory Order, and deliver that presentation to all INIS employees and Contractors.

2. INIS will train employees and Contractors on the Confirmatory Order at least once in each calendar year 2026, 2027, and 2028. INIS will maintain a record of the individuals receiving the training, a summary of the feedback on the training, the instructor providing the training (if applicable) and the date of the training.

3. Until December 31, 2028, for all new INIS employees and Contractors that are hired by INIS subsequent to the effective date of this CO, INIS will provide the training as described in F.2 no later than 30 days after they are hired.

G. Until December 31, 2028, or as consistent with regulatory requirements, INIS will retain a copy of all documentation and records necessary to demonstrate compliance with the conditions of the Confirmatory Order.

H. Documents that are required to be sent to the NRC as a result of the Confirmatory Order conditions will be sent to the Director, Division of Radiological Safety and Security, U.S. Nuclear Regulatory Commission, Region IV, and by email to R4Enforcement@nrc.gov.

I. In consideration of the Conditions delineated above, the NRC agrees not to issue a notice of violation and not to impose a civil penalty for the apparent violations documented in NRC Inspection Report 030-35486/2023-002 to INIS dated April 29, 2025.

J. With regard to the apparent violations documented in NRC Inspection Report 030-35486/2023-002, the NRC will not require any further response from INIS beyond what is set forth in the Confirmatory Order.

K. In the event of the transfer of the license of INIS to another entity, the terms and conditions set forth hereunder shall continue to apply to the new entity and accordingly survive any transfer of ownership or license.

L. The NRC and INIS agree that the above conditions will be incorporated into a Confirmatory Order.

On September 22, 2025, INIS consented to issuing this Confirmatory Order with the commitments, as described in Section V below. INIS further agreed that this Confirmatory Order is to be effective upon issuance, the agreement memorialized in this Confirmatory Order settles the matter between the parties, and that INIS has waived its right to a hearing.

IV

I find that the corrective actions that INIS has already implemented, as described in Section III above, combined with the commitments as set forth in Section V below are acceptable and necessary, and I conclude that with these commitments the public health and safety are reasonably assured. In view of the foregoing, I have determined that public health and safety require that INIS's commitments be confirmed by this Confirmatory Order. Based on the above and INIS's consent, this Confirmatory Order is effective upon issuance.

V

Accordingly, pursuant to Sections 81, 161b, 161i, 161o, 182, and 187 of the Atomic Energy Act of 1954, as amended, and the Commission's regulations in 10 CFR 2.202 and 10 CFR part 30, IT IS HEREBY ORDERED, EFFECTIVE UPON ISSUANCE, THAT LICENSE NO. 11-27680-01MD IS MODIFIED AS FOLLOWS:

A. INIS will identify a qualified, independent consultant for nomination and appointment to the Radiation Safety Committee (ALARA Committee). The consultant should have expertise as a health physicist, specifically qualified as a certified health physicist (CHP), with an understanding of manufacturing and distribution facilities, radiation shielding, external dosimetry, and public dose assessment.

1. Within 120 days after the issuance date of the Confirmatory Order, and prior to entering into a contract with an independent consultant, INIS will provide the consultant's qualifications to the NRC for review to verify independence and qualifications. Within 30 days of receiving the proposed consultant's qualifications, the NRC will either communicate to INIS its approval of the consultant or reasons for its disapproval. If the NRC does not approve the proposed consultant, INIS will propose a different consultant within 180 days after the issuance date of the Confirmatory Order.

2. The independent consultant will participate as a quorum member of the INIS ALARA Committee through December 31, 2028. If the independent consultant is not able to participate on the ALARA Committee in person, he or she may participate remotely via teleconference or videoconference.

3. The licensee will not remove the independent consultant from the ALARA Committee without providing written notification to the NRC within 10 business days. The licensee will propose a replacement independent consultant to the NRC within 120 days of the previous consultant's removal.

4. For periods during which the independent consultant is not available to participate on the INIS ALARA Committee, the ALARA Committee may convene and issue decisions, provided that the consultant shall review all Committee decisions as soon as practicable. The results of this review will be included in the ALARA Committee meeting minutes.

B. Within 120 days of the issuance date of the Confirmatory Order, INIS will review and revise the Radiation Safety Manual as necessary to ensure that its ALARA Committee Charter includes provisions to:

1. Reassess the thresholds defining what types of issues shall be brought to the ALARA Committee for approval. The intent is to ensure the ALARA Committee reviews and approves changes with the potential to decrease the effectiveness of the radiation safety program or alter facility radiological conditions. The criteria will include, at a minimum:

a. Adding new activities under the license.

b. Changes to the facility, procedures or processes that may alter the radiological hazard within or adjacent to the facility, including transient or short-term operations.

c. Changes that create new or alter current radiological conditions.

d. Preparation and completion of radiological safety evaluations.

e. Changes to operations that may require an amendment to the license.

2. Require quarterly all-hands ALARA meetings.

3. Require that meeting agenda topics are specifically listed in the ALARA Committee meeting minutes.

4. Require that minutes are created and maintained available for inspection documenting ALARA Committee decisions and supporting decision-making documents are also retained, consistent with regulatory requirements.

The requirements of this Condition will remain in effect through December 31, 2028.

C. INIS will perform a comprehensive radiological assessment of its facilities, including impact to tenants, sublessees, and members of the public, that addresses routine and infrequent licensed activities, and takes into consideration various combinations of authorized activities that could occur at the same time. This assessment shall consider potential doses to occupants of the subleased spaces or tenants in addition to the publicly accessible boundaries of INIS facilities. INIS shall prepare a written report describing the assessment, including recommendations that address establishing administrative limits and their technical bases to ensure that operations do not result in exceeding the limits of 10 CFR 20.1301. This will include the following actions:

1. Within 180 days of the issuance date of the Confirmatory Order, or within 30 days of appointing the independent ALARA Committee member referenced in Condition A, whichever occurs later, INIS will submit a copy of the radiological assessment report to the independent ALARA Committee member.

2. Within 90 days of receiving the radiological assessment report, the independent ALARA Committee member will complete a comprehensive technical review of the report and communicate the results of their review to the ALARA Committee.

3. Within 30 days of the independent ALARA Committee member communicating the results of their review to the ALARA Committee, the ALARA Committee will meet to review and approve the recommendations in the radiological assessment report or describe appropriate alternatives.

4. Within 30 days of the ALARA Committee decision in C.3, the licensee will provide a report to the NRC with the ALARA Committee's decisions regarding the radiological assessment, to include a schedule and plan for implementation of approved recommendations.

D. Within 180 days of the issuance date of the Confirmatory Order, INIS will:

1. Develop or revise (i) documentation that describes the current use and storage of licensed materials, and (ii) a facilities drawing or drawings that indicate and describe the radiation shielding installed (materials used, dimensions, location of installation, photographs, drawings); and

2. Develop or revise and implement a procedure or procedures requiring the following:

a. Any changes/modifications/revisions of the shielding as described in the facilities drawing(s) must first be approved by the full ALARA Committee prior to any change to the shielding. The ALARA Committee review must include whether the proposed change will decrease the effectiveness of the shielding. Documentation of ALARA Committee reviews must be retained consistent with regulatory requirements.

b. The documentation and drawing(s) described in paragraph D.1 will be updated when changes in use and storage of licensed material or radiation shielding are made.

c. The documentation and drawing(s) described in paragraph D.1 will be retained consistent with regulatory requirements and made available to NRC inspectors upon request.

E. Within 60 days of the issuance date of the Confirmatory Order, INIS will develop and implement a comprehensive process or procedure to track sealed sources containing licensed materials that are manufactured by INIS. The process or procedure will track and provide accountability for all sources manufactured by INIS until they are transferred to authorized recipients. Sources that are manufactured but are pending transfer to an authorized recipient shall be entered into INIS's inventory, in order to ensure the inventory record accounts for all licensed material possessed by INIS.

F. INIS will develop and implement training on this Confirmatory Order as specified below:

1. Within 60 days of the effective date of the Confirmatory Order, INIS will develop a 30- to 45-minute in-depth causal lessons learned presentation related to NRC Inspection Report 030-35486/2023-002, and this Confirmatory Order, and deliver that presentation to all INIS employees and Contractors.

2. INIS will train employees and Contractors on the Confirmatory Order at least once in each calendar year 2026, 2027, and 2028. INIS will maintain a record of the individuals receiving the training, a summary of the feedback on the training, the instructor(s) providing the training (if applicable) and the date of the training.

3. Until December 31, 2028, for all new INIS employees and Contractors that are hired by INIS subsequent to the effective date of this Confirmatory Order, INIS will provide the training as described in F.2 no later than 30 days after they start employment.

G. Until December 31, 2028, or as consistent with regulatory requirements, INIS will retain a copy of all documentation and records necessary to demonstrate compliance with the conditions of the Confirmatory Order.

H. Documents that are required to be sent to the NRC as a result of the Confirmatory Order conditions will be sent to the Director, Division of Radiological Safety and Security, U.S. Nuclear Regulatory Commission, Region IV, and by email to R4Enforcement@nrc.gov.

In the event of transfer of INIS's license to another entity, the terms and conditions set forth hereunder shall continue to apply to the new entity and accordingly survive any transfer of ownership or license. The Regional Administrator, Region IV, may, in writing, relax or rescind any of the above conditions upon demonstration by INIS or its successors of good cause.

VI

In accordance with 10 CFR 2.202 and 10 CFR 2.309, any person adversely affected by this Confirmatory Order, other than INIS, may request a hearing within thirty (30) calendar days of the date of issuance of this Confirmatory Order. Where good cause is shown, consideration will be given to extending the time to request a hearing. A request for extension of time must be made in writing to the Director, Office of Enforcement, U.S. Nuclear Regulatory Commission, Washington, DC 20555, and include a statement of good cause for the extension.

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving the documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The Commission will issue a notice or order granting or denying a hearing request or intervention petition, designating the issues for any hearing that will be held and designating the Presiding Officer. A notice granting a hearing will be published in the Federal Register and served on the parties to the hearing.

If a person (other than INIS) requests a hearing, that person shall set forth with particularity the manner in which his interest is adversely affected by this Confirmatory Order and shall address the criteria set forth in 10 CFR 2.309(d) and (f).

If a hearing is requested by a person whose interest is adversely affected, the Commission will issue an order designating the time and place of any hearings. If a hearing is held, the issue to be considered at such hearing shall be whether this Confirmatory Order should be sustained.

In the absence of any request for hearing, or written approval of an extension of time in which to request a hearing, the provisions specified in Section V above shall be final 30 days from the date of this Confirmatory Order without further order or proceedings. If an extension of time for requesting a hearing has been approved, the provisions specified in Section V shall be final when the extension expires if a hearing request has not been received.

Dated this 30th day of September 2025.

For the Nuclear Regulatory Commission.

John D. Monninger,

Regional Administrator, NRC Region IV.

[FR Doc. 2025-20396 Filed 11-19-25; 8:45 am]

BILLING CODE 7590-01-P